NATIONAL FOUNDATION ON THE ARTS AND THE HUMANITIES

Institute of Museum and Library Services

Submission for OMB Review, Comment Request, Proposed Collection Requests: Assessment of the IMLS African American History and Culture (AAHC) Grant Program

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments about this assessment process, instructions and data collections.

A copy of the proposed information collection request can be obtained by contacting the individual listed below in the ADDRESSES section of this notice.

DATES: Written comments must be submitted to the office listed in the FOR FURTHER INFORMATION CONTACT section below on or before March 6, 2020.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Matthew Birnbaum, Institute of Museum and Library Services, 955 L'Enfant Plaza North SW, Suite 4000, Washington, DC 20024-2135. Dr. Birnbaum can be reached by Telephone: 202-653-4760, Fax: 202-653-4608, or by email at mbirnbaum@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: The Museum Grants for African American History and Culture (AAHC) program is one of these six OIMLS Office of Museum Services (OMS) grant programs, and it was created by an Act of Congress in 2003—the same act that created the Smithsonian National Museum of African American History and Culture. This legislation directed IMLS to create a grant program to improve operations, care of collections, and development of professional management at African American museums. Now in its 13th year of funding grants, AAHC funds projects that nurture museum professionals; builds institutional capacity; and increases access to museum and archival collections at African American museums and Historically Black Colleges and Universities (HBCUs). Museums of all sizes and geographic areas whose primary purpose, as reflected in their mission is African American art, life, history, and culture, are eligible to apply for an AAHC grant.

The agency now seeks to undertake a systematic assessment to evaluate the performance of the AAHC grant program. The proposed evaluation approach is intended to provide a reasonable balance between scientific considerations for valid and reliable evidence with stakeholder utilization of the acquired knowledge. This investigation is tended to inform IMLS decision-making for current and future grant-making in this grant program, as well as for practices in this segment of the museum sector.

This action is to create the survey forms and instructions for the assessment for the next three years. The 60-day notice for the Assessment of the IMLS African American History and Culture (AAHC) Grant Program, was published in the Federal Register on August 27, 2019 (84 FR 44942-43). No comments were received.

Agency: Institute of Museum and Library Services.

Title: Assessment of the IMLS African American History and Culture (AAHC) Grant Program.

OMB Number: 3137-TBD.

Agency Number: 3137.

Affected Public: Federal, State and local governments, State library administrative agencies, libraries, general public.

Number of Respondents: 256.

Frequency: Once.

Burden Hours per Respondent: 0.35.

Total Burden Hours: 90.20.

Total Annual Costs: $2,577.82.

Dated: January 31, 2020.
Kim Miller,
Grants Management Specialist, Institute of Museum and Library Services.

[FR Doc. 2020-02223 Filed 2-4-20; 8:45 am]

BILLING CODE 7036-01-P